DEPARTMENT OF TRANSPORTATION

Federal Aviation Administration

14 CFR Part 39

[Docket No. FAA-2017-0492; Product Identifier 2016-SW-025-AD]

RIN 2120-AA64

Airworthiness Directives; Honeywell International Inc. (Honeywell) Enhanced Ground Proximity Warning System (EGPWS)

AGENCY: Federal Aviation Administration (FAA), DOT.

ACTION: Proposed rule; withdrawal.

SUMMARY: The FAA is withdrawing a notice of proposed rulemaking (NPRM) that proposed to adopt a new airworthiness directive (AD) that would have applied to various normal and transport category rotorcraft with certain Honeywell enhanced ground proximity warning systems (EGPWS) installed. The NPRM was prompted by a software defect that prevents the EGPWS from providing terrain warnings. The NPRM would have required updating the software version of the EGPWS. Since issuance of the NPRM, the FAA has determined that the unsafe condition no longer exists and has confirmed that the majority of operators have updated their software as specified in the NPRM. Accordingly, the NPRM is withdrawn.

DATES: The FAA is withdrawing the proposed rule published June 6, 2017 (82 FR 25978), as of June 3, 2020.

ADDRESSES:

Examining the AD Docket

You may examine the AD docket on the internet at https://www.regulations.gov by searching for and locating Docket No. FAA-2017-0492; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Thanh Tran, Aerospace Engineer, Systems and Equipment Section, FAA, Los Angeles ACO Branch, 3960 Paramount Boulevard, Lakewood, CA 90712-4137; phone: 562-627-5304; fax: 562-627-5210; email thanh.b.tran@faa.gov.

SUPPLEMENTARY INFORMATION:

Discussion

The FAA has issued an NPRM that proposed to amend 14 CFR part 39 by adding an AD that would apply to the specified products. The NPRM was published in the Federal Register on June 6, 2017 (82 FR 25978). The NPRM was prompted by a software defect that prevents the EGPWS from providing terrain warnings. The NPRM proposed to require updating the software version of the EGPWS. The proposed actions were intended to address failure of an EGPWS to generate a terrain warning, which could result in flight into terrain.

Actions Since the NPRM Was Issued

Since issuance of the NPRM, the FAA has determined that the unsafe condition no longer exists and has confirmed that the majority of operators have updated their software as specified in the NPRM. In addition, the FAA confirmed that the software failure related to the potential unsafe condition has occurred only during lab testing; no failures have occurred during operation of the affected helicopters. The FAA completed a new risk assessment based on this data that showed there is an acceptable level of risk. Therefore, the FAA has determined that AD action is not appropriate and the NPRM should be withdrawn.

Withdrawal of this NPRM constitutes only such action and does not preclude the FAA from further rulemaking on this issue, nor does it commit the FAA to any course of action in the future.

FAA's Conclusions

Upon further consideration, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2017-0492, which was published in the Federal Register on June 6, 2017 (82 FR 25978), is withdrawn.

Issued on May 28, 2020.
Gaetano A. Sciortino,
Deputy Director for Strategic Initiatives, Compliance & Airworthiness Division, Aircraft Certification Service.

[FR Doc. 2020-11848 Filed 6-2-20; 8:45 am]

BILLING CODE 4910-13-P